DEPARTMENT OF TRANSPORTATION

Federal Aviation Administration

Notice of Release of Land From Federal Grant Assurance Obligations at Tucson International Airport, Tucson, Pima County, Arizona

AGENCY: Federal Aviation Administration, DOT.

ACTION: Notice of Request to Release Airport Land.

SUMMARY: The Federal Aviation Administration (FAA) proposes to rule and invites public comment for the release of approximately 8 acres of airport land, at Tucson International Airport (TUS), Tucson, Pima County, Arizona from the aeronautical use provisions of the Grant Agreement Assurances since the land is not needed for airport purposes. The land for proposed release consists of one parcel and two partial parcels located south of East Valencia Road, east of South Park Avenue, and located in the northwest section of the TUS airport. The land will be sold to the Arizona Air National Guard, to accommodate the future reconfiguration of their entry control facility. The airport will be compensated for the fair market value of the land. The use of the land for an entry control facility represents a compatible land use that will not interfere with the airport or its operation, thereby protecting the interests of civil aviation.

DATES: Comments must be received on or before September 15, 2025.

FOR FURTHER INFORMATION CONTACT: Mr. Kyler Erhard, Acting Manager, Phoenix Airports District Office, Federal Aviation Administration, 3800 N Central Avenue, Suite 1025, Phoenix, AZ 85012; telephone 602-792-1073.

ADDRESSES: Send comments to Mr. Erhard at the address above, and send one copy to Mr. Tony Bianchi, Director, Planning & Environmental Services, Tucson Airport Authority, 7250 S Tucson Boulevard, Suite 300, Tucson, AZ 85756.

SUPPLEMENTARY INFORMATION: Under 49 U.S.C. 47107(h) and the Wendell H. Ford Aviation Investment and Reform Act for the 21st Century (AIR 21), Public Law 106-181 (Apr. 5, 2000; 114 Stat. 61), the FAA must publish this notice 30 days before waiving any grant condition imposed by surplus-property conveyance deeds or grant agreements. The Tucson Airport Authority (TAA) has requested release of roughly 8 acres at TUS to allow sale to the Arizona Air National Guard for an entry control facility reconfiguration. TAA will be compensated at fair-market value. An Environmental Assessment was completed, and a Finding of No Significant Impact was signed April 1, 2020. The proposed use is compatible with airport operations and development and serves the interests of civil aviation by enhancing public safety.

Issued in El Segundo, California.
Brian Q. Armstrong,
Manager, Safety and Standards Branch, Airports Division, Western-Pacific Region.

[FR Doc. 2025-15533 Filed 8-14-25; 8:45 am]

BILLING CODE 4910-13-P